DEPARTMENT OF THE INTERIOR

National Park Service

[N6726; NPS-WASO-NAGPRA-NPS0041486; PPWOCRADN0-PCU00RP14.R50000]

Notice of Inventory Completion: Merced College, Merced, CA

AGENCY: National Park Service, Interior.

ACTION: Notice.

SUMMARY: In accordance with the Native American Graves Protection and Repatriation Act (NAGPRA), Merced College has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Jeff Buechler, Social Sciences Stop 35, Merced College, 3600 M Street, Merced, CA 95348, email jeffrey.buechler@mccd.edu.

SUPPLEMENTARY INFORMATION: This notice is published as part of the National Park Service's administrative responsibilities under NAGPRA. The determinations in this notice are the sole responsibility of Merced College, and additional information on the determinations in this notice, including the results of consultation, can be found in the inventory or related records. The National Park Service is not responsible for the determinations in this notice.

Abstract of Information Available

Human remains representing at least two individuals have been identified in Merced College records as having been removed on an unknown date from an unknown location called “Indian Valley”. There are multiple areas in the Central Valley area of California that are referred to as “Indian Valley”. No associated funerary objects are present.

Human remains representing at least 22 individuals were located in the Merced College Anthropology lab space in December 2019 and January 2020. They were not accompanied with any identifying information or provenience, but it is believed that they likely had been removed from California's Central Valley at an unknown date. The one associated funerary object is one possible charmstone.

Cultural Affiliation

Based on the information available and the results of consultation, cultural affiliation is reasonably identified by the geographical location and acquisition history of the human remains and associated funerary objects described in this notice.

Determinations

Merced College has determined that:

• The human remains described in this notice represent the physical remains of 24 individuals of Native American ancestry.

• The one object described in this notice is reasonably believed to have been placed intentionally with or near individual human remains at the time of death or later as part of the death rite or ceremony.

• There is a reasonable connection between the human remains and associated funerary objects described in this notice and the Big Pine Paiute Tribe of the Owens Valley; Big Sandy Rancheria of Western Mono Indians of California; Bishop Paiute Tribe; Bridgeport Indian Colony; Buena Vista Rancheria of Me-Wuk Indians of California; Burns Paiute Tribe; California Valley Miwok Tribe, California; Cedarville Rancheria, California; Chicken Ranch Rancheria of Me-Wuk Indians of California; Cold Springs Rancheria of Mono Indians of California; Federated Indians of Graton Rancheria, California; Fort Bidwell Indian Community of the Fort Bidwell Reservation of California; Fort Independence Indian Community of Paiute Indians of the Fort Independence Reservation, California; Fort McDermitt Paiute and Shoshone Tribes of the Fort McDermitt Indian Reservation, Nevada and Oregon; Ione Band of Miwok Indians of California; Jackson Band of Miwuk Indians; Lone Pine Paiute-Shoshone Tribe; Lovelock Paiute Tribe of the Lovelock Indian Colony, Nevada; Middletown Rancheria of Pomo Indians of California; Northfork Rancheria of Mono Indians of California; Paiute-Shoshone Tribe of the Fallon Reservation and Colony, Nevada; Picayune Rancheria of Chukchansi Indians of California; Pyramid Lake Paiute Tribe of the Pyramid Lake Reservation, Nevada; Reno-Sparks Indian Colony, Nevada; Santa Rosa Indian Community of the Santa Rosa Rancheria, California; Shingle Springs Band of Miwok Indians, Shingle Springs Rancheria (Verona Tract), California; Shoshone-Bannock Tribes of the Fort Hall Reservation; Summit Lake Paiute Tribe of Nevada; Susanville Indian Rancheria, California; Table Mountain Rancheria; Tejon Indian Tribe; Tule River Indian Tribe of the Tule River Reservation, California; Tuolumne Band of Me-Wuk Indians of the Tuolumne Rancheria of California; United Auburn Indian Community of the Auburn Rancheria of California; Utu Utu Gwaitu Paiute Tribe of the Benton Paiute Reservation, California; Walker River Paiute Tribe of the Walker River Reservation, Nevada; Washoe Tribe of Nevada & California (Carson Colony, Dresslerville Colony, Woodfords Community, Stewart Community, & Washoe Ranches); Wilton Rancheria, California; Winnemucca Indian Colony of Nevada; and the Yerington Paiute Tribe of the Yerington Colony & Campbell Ranch, Nevada.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 20, 2026. If competing requests for repatriation are received, Merced College must determine the most appropriate requestor prior to repatriation. Requests for joint repatriation of the human remains and associated funerary objects are considered a single request and not competing requests. Merced College is responsible for sending a copy of this notice to the Indian Tribes and Native Hawaiian organizations identified in this notice.

Authority: Native American Graves Protection and Repatriation Act, 25 U.S.C. 3003, and the implementing regulations, 43 CFR 10.10.

Dated: December 2, 2025.
Melanie O'Brien,
Manager, National NAGPRA Program.

[FR Doc. 2025-23180 Filed 12-17-25; 8:45 am]

BILLING CODE 4312-52-P